DEPARTMENT OF JUSTICE

Antitrust Division

Notice Pursuant to the National Cooperative Research and Production Act of 1993—Wireless Application Protocol Forum, Ltd. (“The WAP Forum”

Notice is hereby given that, on October 5, 1999, pursuant to section 6(a) of the National Cooperative Research and Production Act of 1993, 15 U.S.C. 4301 et seq. (“the Act”), Wireless Application Protocol Forum, Ltd. (“The WAP Forum”) has filed written notifications simultaneously with the Attorney General and the Federal Trade Commission disclosing changes in its membership status. The notifications were filed for the purpose of extending the Act's provisions limiting the recovery of antitrust plaintiffs to actual damages under specified circumstances. Specifically, 724 Solutions, Toronto, Ontario, Canada; Adera, Gothenburg, Sweden; Aether Systems, Inc., Owings Mills, MD; Agency.com, London, United Kingdom; Airtel Movil, S.A., Madrid, Spain; Akumiitti Ltd, Helsinki, Finland; AltaWave Inc., Cupertino, CA; Angelica Wireless, Vanlose, Denmark; Argot Interactive Ltd., Chichester, West Sussex, United Kingdom; Aspiro, Malmo, Sweden; At Home Corporation, Redwood City, CA; AtMotion, Incorporated, Redwood Shores, CA; Avenir ASA, Oslo, Norway; BEA Systems, San Francisco, CA; Bul CP8, Louveciennes, France; Centre for Wireless Communications, Singapore, Singapore; Cerulean Technology, Inc., Marlboro, MA; Charles Schwab & Co., Inc., San Francisco, CA; CoCoNet Global Interchange GmbH, Erkrath, Germany; Concis Consulting, Stockholm, Sweden; Cyber-COMM, Paris, France; CycleLogic, Miami, FL; Data on Air, Inc., Orlando, FL; Digital Bridges Limited, Fife, Scotland, United Kingdom; Diversinet Corp., Toronto, Ontario, Canada; Eircell, Dublin, Ireland; Entra Data AB, Stockholm, Sweden; Entrust Technologies Inc., Ottawa, Ontario, Canada; Evolving Systems, Inc., Englewood, CO; FarEasTone Telecommunications Co., Taipei, Hsien, Taiwan; Fidelity Investments, Boston, MA; Framtidsfabriken AB, Stockholm, Sweden; FusionOne, Inc., Los Gatos, CA; Globalaccess Internet Ltd., London, United Kingdom; Hyperwave, Graz, Austria; Icon Medialab International, Tampere, Finland; ILICO Limited, Covent Garden, United Kingdom; Infinite Technologies, Owings Mills, MD; Information Highway AB, Sundbyberg, Sweden; Information Mechanics, Inc., Englewood, CO; Infowave Softwave, Inc., Burnaby, British Columbia, Canada; Intelligent Information Inc., Stamford, CT; Intershop Communications GmbH, Hamburg, Germany; Jinny Software Ltd., Dublin, Ireland; LG TeleCom, Ltd, Seoul, South Korea; LPG Innovations Ltd., Helsinki, Finland; MasterCard International Inc., Purchase, NY; MAZ Mikroelektronik, Hamburg, Germany; Melody Interactive Solutions AB, Stockholm, Sweden; Myalertcom, SA, Madrid, Spain; NEC Corporation, Yokohama, Kanagawa, Japan; Nedecon-Network Development, Espoo, Finland; Novo Meridian Oy, Espoo, Finland; Palm Computing Inc., Santa Clara, CA; pc-plus Computing, Munich, Germany; PCS Innovations Inc., Brossard, Quebec, Canada; Pioneer Corporation, Saitama-ken, Japan; Portal Software, Incorporated, Cupertino, CA; RTS Networks Finland Oy, Espoo, Finland; Sanoma-WSOY Oyj, Helsinki, Finland; screamingmedia.com, San Diego, CA; Setec Oy, Vantaa, Finland; Sharp Corporation, Hiroshima, Japan; SmartServ Online, Inc., Stamford, CT; space2go.com GmbH & Co., Berlin, Germany; STMicroelectronics, Inc., San Jose, CA; Telocity, Inc., Cupertino, CA; Turkcell Iletisim Hizmetleri A.S., Istanbul, Turkey; Ubiguity S.R.L., Milan, Italy; Universal Communication Platform, Vienna, Austria; VeriSign, Inc., Wakefield, MA; VIAGA Interkom GmbH & Co., Muenchen, Germany; Vicinity Corporation, Palo Alto, CA; Virtual, Inc., Taipei, Taiwan; VISA International, Foster City, CA; Webraska Mobile Technologies, Poissy Cedex, France; and Zillion AG, Zurich, Switzerland have been added as parties to this venture. Also, BEA WebXpress, San Francisco, CA has been dropped as a party to this venture.

No other changes have been made in either the membership or planned activity of the group research project. Membership in this group research project remains open, and Wireless Application Protocol Forum, Ltd. (“The WAP Forum”) intends to file additional written notification disclosing all changes in membership.

On March 18, 1998, Wireless Application Protocol Forum, Ltd. (“The WAP Forum”) filed its original notification pursuant to Section 6(a) of the Act. The Department of Justice published a notice in the Federal Register pursuant to Section 6(b) of the Act on December 31, 1998 (63 FR 72333).

The last notification was filed with the Department on July 9, 1999. A notice was published in the Federal Register pursuant to section 6(b) of the Act on April 28, 2000 (65 FR 24985).

Constance K. Robinson,
Director of Operations, Antitrust Division.

[FR Doc. 00-16472 Filed 6-28-00; 8:45 am]

BILLING CODE 4410-11-M